DEPARTMENT OF ENERGY

Federal Energy Regulatory Commission

[Docket No. RP05-180-000]

Discovery Gas Transmission LLC; Notice of Tariff Filing

February 15, 2005.

Take notice that on February 9, 2005, Discovery Gas Transmission LLC (Discovery) tendered for filing as part of its FERC Gas Tariff, Original Volume No. 1, the following tariff sheets, to be effective April 1, 2005:

Seventh Revised Sheet No. 20

First Revised Sheet No. 31

Fifth Revised Sheet No. 33

Second Revised Sheet No. 41

Second Revised Sheet No. 42

Fifth Revised Sheet No. 44

First Revised Sheet No. 51

Fifth Revised Sheet No. 53

First Revised Sheet No. 100

Fourth Revised Sheet No. 101

Fourth Revised Sheet No. 105

Fourth Revised Sheet No. 106

Third Revised Sheet No. 134

Second Revised Sheet No. 142

First Revised Sheet No. 143

Third Revised Sheet No. 144

First Revised Sheet No. 185

First Revised Sheet No. 194

First Revised Sheet No. 197

Original Sheet No. 197A

First Revised Sheet No. 201

Second Revised Sheet No. 202

First Revised Sheet No. 207

First Revised Sheet No. 221

Third Revised Sheet No. 222

First Revised Sheet No. 223

First Revised Sheet No. 227

First Revised Sheet No. 241

Second Revised Sheet No. 242

First Revised Sheet No. 246

Discovery states that this filing is made in part for administrative purposes and in part as a housekeeping matter to clarify, update and clean up several items in Discovery's tariff.

Discovery further states that copies of the filing have been mailed to each of its customers, interested State Commissions and other interested persons.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-719 Filed 2-22-05; 8:45 am]

BILLING CODE 6717-01-P